DEPARTMENT OF TRANSPORTATION

Federal Aviation Administration

14 CFR Part 121

Operating Requirements: Domestic, Flag, and Supplemental Operations

CFR Correction

In Title 14 of the Code of Federal Regulations, parts 60 to 139, revised as of January 1, 2004, on page 474, § 121.385 is corrected by adding paragraph (d) to read as follows:

§ 121.385 Composition of flight crew.

* * * * *

(d) On each flight requiring a flight engineer at least one flight crewmember, other than the flight engineer, must be qualified to provide emergency performance of the flight engineer's functions for the safe completion of the flight if the flight engineer becomes ill or is otherwise incapacitated. A pilot need not hold a flight engineer's certificate to perform the flight engineer's functions in such a situation.

[FR Doc. 04-55529 Filed 12-17-04; 8:45 am]

BILLING CODE 1505-01-D